DEPARTMENT OF THE INTERIOR

National Park Service

Notice of Availability of Draft Director's Order Concerning National Park Service (NPS) Policies and Procedures for Recovering Costs Associated With Providing Utility Services to Non-NPS Users

AGENCY: National Park Service, Department of the Interior.

ACTION: Modification to notice of availability (re-opening of public comment period).

SUMMARY: The National Park Service is proposing to adopt a Director's Order setting forth the policies and procedures under which the NPS will recover expenses for providing utilities to non-NPS entities. These expenses include, but are not limited to, annual operating costs, cyclical repair and rehabilitation costs, and capital investment cost. 16 U.S.C. lb(4) provides authority for the NPS to furnish “on a reimbursement of appropriation basis, all types of utility services to concessioners, contractors, permittees, or other users of such services, within the National Park System”. The Director's Order provides policies and procedures for consistent application of this guidance throughout the National Park Service.

DATES: In recognition of obstacles imposed by the presence of two major holidays within the original public comment period, and to ensure full participation by all concerned entities, the period for acceptance of written comments has been re-opened. Comments will be accepted until March 6, 2010. All comments submitted between the close of the initial comment period and the re-opening of the comment period will be considered.

ADDRESSES: Draft Director's Order #35B is available on the Internet at http://www.nps.gov/policy/DO-35Bdraft.htm. Requests for copies of, and written comments on, the Director's Order should be sent to Tim Harvey, Chief, Park Facility Management Division, 1849 C Street, NW., Washington, DC 20240, or to his Internet address: tim harvey@aps.gov.

FOR FURTHER INFORMATION CONTACT: Tim Harvey at (202) 513-7044.

SUPPLEMENTARY INFORMATION: When the NPS adopts documents containing new policy or procedural requirements that may affect parties outside the NPS, the documents are first made available for public review and comment before being adopted. A number of contacts have been made, prior to the issuance of this notice, to solicit input from potentially impacted groups and organizations.

Public Availability of Comments: Before including your address, phone number, e-mail address, or other personal identifying information in your comment, you should be aware that your entire comment—including your personal identifying information—may be made publicly available at any time. While you can ask us in your comment to withhold your personal identifying information from public review, we cannot guarantee that we will be able to do so.

Dated: December 9, 2009.
Stephen E. Whitesell,
Associate Director, Park Planning, Facilities, and Lands.

[FR Doc. 2010-2234 Filed 2-5-10; 8:45 am]

BILLING CODE P